NUCLEAR REGULATORY COMMISSION

[Docket No. 50-400-LA; ASLBP No. 99-762-02-LA; November 9, 2000]

Atomic Safety and Licensing Board; Notice (Schedule for Oral Argument)

Before Administrative Judges:

G. Paul Bollwerk, III, Chairman

Dr. Peter S. Lam

Thomas D. Murphy

In the Matter of Carolina Power & Light Company (Shearon Harris Nuclear Power Plant)

In accordance with the Licensing Board's memorandum and order of August 28, 2000, the Board will hold the 10 CFR 2.1113 argument regarding the parties' written summaries on intervenor Board of Commissioners of Orange County's (BCOC) contention EC-6, Environmental Impact Statement Required, on Thursday, December 7, 2000, beginning at 9:30 a.m. EST, in the Jane S. McKimmon Conference Center, North Carolina State University, corner of Gorman Street and Western Avenue, Raleigh, North Carolina. The procedures applicable to this oral argument will be the same as those used for the January 2000 oral argument. See Licensing Board Memorandum and Order (Subpart K Oral Argument Procedures) (Jan. 13, 2000) at 1-3 (unpublished).

At this juncture, it is the Board's intent that this oral argument will be open to the public. If, in submitting written summaries, any of the parties utilize proprietary or other nonpublic information, the parties should be prepared to advise the Board whether that information will be discussed during, or otherwise be a part of, the oral argument. See id. at 5.

Rockville, Maryland, November 9, 2000.
For the Atomic Safety and Licensing Board *
* Copies of this notice were sent this date by Internet e-mail transmission to counsel for (1) applicant Carolina Power and Light Company; (2) intervenor BCOC; and (3) the NRC staff.
G. Paul Bollwerk, III,
Administrative Judge.

[FR Doc. 00-29381 Filed 11-15-00; 8:45 am]

BILLING CODE 7590-01-P